DEPARTMENT OF TRANSPORTATION

Federal Aviation Administration

14 CFR Part 89

[Docket No. FAA-2022-0859]

Accepted Means of Compliance; Remote Identification of Unmanned Aircraft

AGENCY: Federal Aviation Administration, Department of Transportation (DOT).

ACTION: Acceptable means of compliance; notice of availability.

SUMMARY: This document announces the acceptance of a means of compliance (MOC) in accordance with a rule issued by the FAA on January 21, 2021, that went into effect on April 21, 2021. The Administrator accepts ASTM, International (ASTM) F3586-22, with additions identified in this document as an acceptable means, but not the only means, of demonstrating compliance with the requirements for producing standard remote identification unmanned aircraft and remote identification broadcast modules.

DATES: August 11, 2022.

FOR FURTHER INFORMATION CONTACT:

FAA Contact: Avi Acharya, Communications, Surveillance & Traffic, AIR-622, Technical Innovation Policy Branch, Policy and Innovation Division, Aircraft Certification Service, Federal Aviation Administration, AIR-600: 800 Independence Ave. SW, Washington, DC 20591; telephone 1-844-FLY-MY-UA; email: UASHelp@faa.gov.

ASTM Contact: Gabriel Cox, Chair, ASTM Remote ID Workgroup, 2610 NE 9th Drive, Hillsboro, OR 97124; telephone: 503-941-0099; email: gabriel.c.cox@intel.com.

SUPPLEMENTARY INFORMATION:

Background

Title 14 Code of Federal Regulations, part 89 establishes remote identification requirements for unmanned aircraft operated in the airspace of the United States. With a few exceptions, unmanned aircraft produced for operation in the airspace of the United States are subject to the production requirements of part 89. A person producing a standard remote identification unmanned aircraft or remote identification broadcast module for operation in the United States must show that the unmanned aircraft or broadcast module meets the requirements of subpart D of part 89 by following an FAA-accepted means of compliance (MOC).

An FAA-accepted MOC describes one means by which a person may comply with the minimum performance requirements for remote identification in subpart D of part 89. To be accepted by the FAA, an MOC must meet the requirements of both subparts D and E of part 89. An MOC must address the minimum performance requirements, as well as the testing and validation necessary to demonstrate compliance with the part 89 subpart D requirements. The FAA indicates its acceptance of an MOC by publishing a Notice of Availability in the Federal Register identifying the MOC as accepted and informing the applicant of its acceptance.¹

¹ 14 CFR part 89, subpart D.

Means of Compliance Accepted in This Policy

On May 13, 2022, ASTM submitted “Standard Practice for Remote ID Means of Compliance to Federal Aviation Administration Regulation 14 CFR part 89”, ASTM Reference Number F3586-22, to the FAA for acceptance. To be accepted, ASTM F3586-22 must adequately address all of the requirements of subparts D and E of part 89 so that any standard remote identification unmanned aircraft or remote identification broadcast module designed and produced in accordance with ASTM F3586-22 would meet the performance requirements of subpart D.

The FAA has reviewed, and accepts ASTM F3586-22 as an MOC to the requirements of part 89, subpart D with additions. The FAA has determined additions to be necessary because Section 7.5.2 of ASTM F3586-22, requiring specific items to be masked from user input, does not adequately ensure compliance with the tamper resistance requirement of §§ 89.310 and 89.320. The FAA-accepted MOC provided in this policy therefore is comprised of ASTM F3586-22 with the following additions:

1. The remote identification system shall protect the part 89-required broadcasted message from being altered or disabled by any person.

2. The remote identification system shall incorporate techniques or methods that reduce the ability of any person to physically and functionally modify or disable any aspect or component of the remote identification system that could impact compliance with the remote identification rule.

3. In applying Section 7.5.2 of ASTM F3586-22, the applicant shall determine whether masking the specified items from user input adequately provides the functional tamper resistance protection specified by this means of compliance, and if it does not, shall incorporate additional functional tamper resistance techniques or methods in accordance with this means of compliance.

Tracking Number

Producers submitting a Declaration of Compliance to the FAA declaring the standard remote identification unmanned aircraft or remote identification broadcast module meets the requirements of this FAA-accepted MOC which includes all provisions of ASTM F3586-22 and the additions identified in this document, must include the following tracking number: RID-ASTM-F3586-22-NOA-22-01.

Availability

ASTM F3586-22, “Standard Practice for Remote ID Means of Compliance to Federal Aviation Administration Regulation 14 CFR part 89”, is available online at https://www.astm.org/f3586-22.html. ASTM copyrights these consensus standards and charges the public a fee for service. Individual downloads or reprints of a standard (single or multiple copies, or special compilations and other related technical information) may be obtained through www.astm.org. The FAA maintains a list of accepted means of compliance on the FAA website at https://uasdoc.faa.gov/listMOC. This document serves as acceptance by the Federal Aviation Administration of the ASTM Remote Identification Standard F3586-22 with additions specified in this document as a means of compliance for meeting the requirements of part 89, subpart D.

Issued in Kansas City, Missouri, on August 3, 2022.
Patrick R. Mullen,
Manager, Technical Innovation Policy Branch, Policy and Innovation Division, Aircraft Certification Service.

[FR Doc. 2022-16997 Filed 8-10-22; 8:45 am]

BILLING CODE 4910-13-P